DEPARTMENT OF COMMERCE

International Trade Administration

[A-588-857]

Welded Large Diameter Line Pipe From Japan: Notice of Rescission of Antidumping Duty Administrative Review

AGENCY: Import Administration, International Trade Administration, Department of Commerce.

SUMMARY: On January 31, 2012, the U.S. Department of Commerce (“the Department”) published a notice of initiation of an administrative review of the antidumping duty order on welded large diameter line pipe from Japan. The review covers five producers/exporters of welded large diameter line pipe from Japan, which are, JFE Steel Corporation, Nippon Steel Corporation, Sumitomo Corporation, Sumitomo Metal Industries, Ltd., and Sumitomo Metals Pipe & Tube Company. Based on a withdrawal of the request for review from United States Steel Corporation (hereafter “U.S. Steel”), a domestic producer of welded large diameter line pipe, we are now rescinding this administrative review in full.

DATES: Effective Date: May 22, 2012.

FOR FURTHER INFORMATION CONTACT: John Drury, or Angelica Mendoza, AD/CVD Operations, Office 7, Import Administration, International Trade Administration, U.S. Department of Commerce, 14th Street and Constitution Avenue NW., Washington, DC 20230; telephone: (202) 482-0195 or (202) 482-3019, respectively.

SUPPLEMENTARY INFORMATION:

Background

On December 1, 2011, the Department published in the Federal Register the notice of opportunity to request an administrative review of the antidumping duty order on welded large diameter line pipe from Japan for the period December 1, 2010, through November 30, 2011. See Antidumping or Countervailing Duty Order, Finding, or Suspended Investigation; Opportunity To Request Administrative Review, 76 FR 74773 (December 1, 2011). On January 3, 2012, the Department received a request from U.S. Steel that the Department conduct an administrative review covering five producers/exporters of welded large diameter line pipe from Japan. On January 31, 2012, the Department published in the Federal Register the notice of initiation of the 2010-2011 administrative review of welded large diameter line pipe from Japan. See Initiation of Antidumping and Countervailing Duty Administrative Reviews and Requests for Revocation in Part, 77 FR 4759 (January 31, 2012).

On March 20, 2012, the Department received notices on behalf of Sumitomo Corporation as well as Sumitomo Metal Industries, Ltd. and its wholly owned subsidiary Sumitomo Metals Pipe & Tube Company informing the Department that neither had made any exports, sales or entries of subject merchandise into the United States for the period of review (“POR”).

On March 21, 2012, the Department released the results of a data query to the United States Customs and Border Protection (“CBP”) regarding imports into the United States of welded large diameter line pipe from Japan during the POR. We did not receive any comments from parties.

On April 30, 2012, U.S. Steel withdrew its request for administrative review for all companies.

Period of Review

The POR is December 1, 2010, through November 30, 2011.

Rescission of Antidumping Duty Administrative Review

19 CFR 351.213(d)(1) of the Department's regulations provides that the Department will rescind an administrative review if the party that requested the review withdraws its request for review within 90 days of the date of publication of the notice of initiation of the requested review. As U.S. Steel has withdrawn its request for review of all companies within 90 days of the date of publication of the notice of initiation of review, the Department is rescinding the review consistent with 19 CFR 351.213(d)(1).

Assessment Instructions

The Department will instruct U.S. Customs and Border Protection (CBP) to assess antidumping duties on all appropriate entries. For companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i)(1) of the Tariff Act of 1930, as amended, and 19 CFR 351.213(d)(4).

Dated: May 8, 2012.
Christian Marsh,
Deputy Assistant Secretary for Antidumping and Countervailing Duty Operations.

[FR Doc. 2012-12407 Filed 5-21-12; 8:45 am]

BILLING CODE 3510-DS-P